DEPARTMENT OF COMMERCE

International Trade Administration

[A-580-839]

Notice of Final Results of Changed Circumstances Antidumping Duty Review: Certain Polyester Staple Fiber From the Republic of Korea

AGENCY: Import Administration, International Trade Administration, Department of Commerce.

SUMMARY: We have completed the changed circumstances review of the antidumping duty order on polyester staple fiber from the Republic of Korea. We determine that the Huvis Corporation is not the successor-in-interest to the Samyang Corporation, SK Chemicals Co., Ltd., or to the Samyang Corporation and SK Chemicals Co. jointly and that the Huvis Corporation is subject to the “all others” rate calculated in the antidumping duty investigation.

EFFECTIVE DATE: June 6, 2001.

FOR FURTHER INFORMATION CONTACT: Sally Hastings or Craig Matney at (202) 482-3464 or (202) 482-1778, respectively; AD/CVD Enforcement Group I, Office 1, Import Administration, International Trade Administration, U.S. Department of Commerce, 14th Street & Constitution Avenue, NW., Washington, DC 20230.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (2000).

Background

On May 25, 2000, the Department of Commerce (the Department) issued an antidumping duty order on certain polyester staple fiber (PSF) from the Republic of Korea (Korea). See Notice of Amended Final Determination of Sales at Less Than Fair Value and Antidumping Duty Order: Certain Polyester Staple Fiber from Republic of Korea, 65 FR 33807 (May 25, 2000). The order excluded merchandise produced by Samyang Corporation (Samyang), which had been found to be dumping at a de minimis level. SK Chemicals Co., Ltd. (SK Chemicals), was not examined in the investigation and its entries of subject merchandise are currently being suspended at the “all others” cash deposit rate of 11.35 percent.

On November 20, 2000, Samyang and the Huvis Corporation (Huvis) informed the Department that Samyang and SK Chemicals had established Huvis as a 50-50 joint venture, effective November 1, 2000. They requested that the Department conduct a changed circumstances review pursuant to section 751(b)(1) of the Act and 19 CFR 351.216(b). Samyang and Huvis argued that Huvis is the successor-in-interest to Samyang and, therefore, is entitled to exclusion from the antidumping order. In the alternative, they asked that the Department find that Huvis is a successor to Samyang and SK Chemicals jointly and that the Department calculate a weighted-average cash deposit rate for Huvis based on Samyang's and SK Chemical's rates.

The Department found “good cause” to conduct a changed circumstances review and on January 9, 2001, concurrently issued a notice of initiation and preliminary results. See Notice of Initiation and Preliminary Results of Changed Circumstances Antidumping Duty Review: Certain Polyester Staple Fiber from the Republic of Korea, 66 FR 1642 (January 9, 2001) (Preliminary Results). In the Preliminary Results, we determined that Huvis is not the successor-in-interest to Samyang, SK Chemicals, or both companies jointly. In addition, we preliminarily found that Huvis is covered by the antidumping duty order as a producer and exporter of PSF from Korea. Consequently, we instructed the Customs Service to suspend liquidation and to collect estimated antidumping duties at the “all others” rate of 11.35 percent on all entries of subject merchandise produced and exported by Huvis retroactive to November 1, 2000.

On January 24, 2001, we received a request from an importer of PSF from Korea, Stein Fibers, Ltd. (Stein Fibers), to clarify our instructions to the Customs Service with respect to subject merchandise which Stein Fibers claimed was produced by Samyang, but not entered until after November 1, 2000.

The Department issued instructions to the Customs Service on April 6, 2001, to liquidate without regard to dumping duties entries which were sold, produced, and exported by Samyang prior to November 1, 2000. For those entries that Stein Fibers claimed were produced and sold by Samyang but exported after November 1, 2000, we instructed the Customs Service to continue to suspend liquidation at a cash deposit rate of 0.00 percent until further notice. In these instructions, we stated that we would analyze, in the context of the final results of the changed circumstances review, whether these were shipments of merchandise sold, produced, and exported by Samyang or Huvis.

On April 24, 2001, we received a letter from Huvis stating that it did not intend to challenge the preliminary results of the changed circumstances review. We received a letter from the petitioners, E.I. DuPont de Nemours and Co., Arteva Specialities S.a.r.l., d/b/a KoSa, Wellman Inc., and Intercontinental Polymers, Inc., on May 1, 2001, stating that they agreed with the preliminary results of the changed circumstances review.

Scope of the Order

The product covered by this order is certain polyester staple fiber. Certain polyester staple fiber is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) classified under the Harmonized Tariff Schedule of the United States (HTSUS) at subheading 5503.20.00.20 is specifically excluded from this order. Also specifically excluded from this order is polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is classified in the HTSUS at subheadings 5503.20.00.40 and 5503.20.00.60. Although the HTSUS subheadings are provided for convenience and customs purposes, the written description of this order is dispositive.

Final Results of Changed Circumstances Antidumping Review

No new information or argument has been submitted that would alter the conclusion we reached in our preliminary results. Therefore, we determine that Huvis is not the successor-in-interest to either Samyang or SK individually, or to Samyang and SK jointly, and that entries of merchandise produced by Huvis are subject to the antidumping duty order on PSF from Korea at the “all others” rate. We will continue to suspend liquidation for merchandise produced and exported by Huvis on or after November 1, 2000, the date of the joint-venture merger of Samyang and SK Chemicals, and to require the deposit of estimated duties at the “all others” rate of 11.35 percent.

With respect to the imports of subject merchandise by Stein Fibers, it is not necessary, at this time, to determine whether these entries were of Samyang or Huvis merchandise. We will continue to suspend the liquidation of these entries, which are listed in the April 6, 2001, message to Customs, at 0.00 percent. These entries will be covered by the results of an administrative review of the antidumping duty order on PSF from Korea, if requested during the anniversary month, or automatic assessment, as appropriate.

This notice also serves as a reminder to parties subject to administrative protective orders (APOs) of their responsibility concerning the disposition of proprietary information disclosed under APO in accordance with section 19 CFR 351.306 of the antidumping duty regulations. Timely written notification of the return/destruction of APO materials or conversion to judicial protective order is hereby requested. Failure to comply with the regulations and terms of an APO is a sanctionable violation.

These final results and notice are in accordance with sections 751(b)(1) and 777(i)(1) of the Act and section 351.216 of the Department's regulations.

Dated: May 29, 2001.
Faryar Shirzad,
Assistant Secretary for Import Administration.

[FR Doc. 01-14276 Filed 6-5-01; 8:45 am]

BILLING CODE 3510-DS-P